DEPARTMENT OF COMMERCE

National Oceanic and Atmospheric Administration

50 CFR Chapters II, III, and VI

[RTID 0648-XA387]

Plan for Periodic Review of Regulations

AGENCY: National Marine Fisheries Service (NMFS), National Oceanic and Atmospheric Administration (NOAA), Commerce.

ACTION: Request for comments.

SUMMARY: NMFS announces the availability of a list of the rules it is reviewing, as required, under section 610 of the Regulatory Flexibility Act. We are required to notify the public of our review of existing regulations that we have determined had, or will have, a significant impact on a substantial number of small entities, such as small businesses, small organizations, and small governmental jurisdictions. The intended effect of this notice is to inform the public of the rules under review, to outline NMFS' review process, and to provide an opportunity to comment.

DATES: Written comments must be received by October 26, 2020.

ADDRESSES: You may submit comments on this document, identified by NOAA-NMFS-2020-0128, by the following method:

• Electronic Submission: Submit all electronic public comments via the Federal e-Rulemaking Portal. Go to http://www.regulations.gov/#!docketDetail;D=NOAA-NMFS-2020-0128, click the “Comment Now!” icon, complete the required fields, and enter or attach your comments.

Instructions: Comments must be submitted by the above method to ensure that the comments are received, documented, and considered by NMFS. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous).

FOR FURTHER INFORMATION CONTACT: Tara Scott, Industry Economist, (301) 427-8579.

SUPPLEMENTARY INFORMATION:

Background

The Regulatory Flexibility Act (RFA), 5 U.S.C. 601 et seq., requires that Federal agencies, including NMFS, take into account how their regulations affect “small entities,” including small businesses, small Governmental jurisdictions, and small organizations. Under the RFA, we must either prepare a Regulatory Flexibility Analysis or certify that the regulation, if put in place, will not have a significant economic impact on a substantial number of small entities. This requirement has been in place for any regulation proposed after January 1, 1981. Section 602 of the RFA requires that NMFS issue an Agenda of Regulations identifying rules under development that are likely to have a significant economic impact on a substantial number of small entities.

Section 610 of the RFA requires Federal agencies to review existing regulations. It requires that NMFS publish a plan in the Federal Register explaining how it will review its existing regulations, which have or will have a significant economic impact on a substantial number of small entities. Regulations that became effective after January 1, 1981, must be reviewed within 10 years of the publication date of the final rule. Section 610(c) requires that we annually publish a list of final rules we will review during the succeeding 12 months in the Federal Register. The list must describe, explain the need for, and provide the legal basis for the rules being reviewed, as well as invite public comment on the rules contained in the list.

Criteria for Review of Existing Regulations

The purpose of the required review is to determine whether existing rules should be left unchanged, or whether they should be revised or rescinded to minimize significant economic impacts on a substantial number of small entities, consistent with the objectives of other applicable statutes. In deciding whether change is necessary, the RFA establishes five factors that NMFS must consider:

(1) Whether the rule is still needed;

(2) What type of complaints or comments were received concerning the rule from the public;

(3) The complexity of the rule;

(4) How much the rule overlaps, duplicates or conflicts with other Federal rules, and, to the extent feasible, with State and local governmental rules; and

(5) How long it has been since the rule has been evaluated or how much the technology, economic conditions, or other factors have changed in the area affected by the rule.

Plan for Periodic Review of Rules

We will ensure that all rules, which have or will have a significant economic impact on a substantial number of small entities, are reviewed within 10 years of the year in which they were originally issued. Below is the list of rules, and their summaries, issued between January 1, 2011, and December 31, 2013, that we will be reviewing during 2020. We anticipate completing the reviews for all of these rules by March 31, 2021:

1. Pacific Halibut Fisheries; Guided Sport Charter Vessel Fishery for Halibut; Recordkeeping and Reporting. RIN 0648-AY38 (76 FR 6567; February 7, 2011). The final rule amended the recordkeeping and reporting requirements for the Pacific halibut guided sport fishery in International Pacific Halibut Commission Regulatory Area 2C (Southeast Alaska) and Area 3A (Central Gulf of Alaska). These regulations revised the Federal requirements for submission of Alaska Department of Fish and Game Saltwater Sport Fishing Charter Trip Logbook data sheets, modified the logbook recording requirements, and added a definition of fishing week. This action was necessary to improve consistency between Federal and State of Alaska requirements for the submission of the logbook data sheets and address recent changes by the State to the logbook reporting format. This action was intended to achieve the halibut fishery management goals of the North Pacific Fishery Management Council and to support the conservation and management provisions of the Northern Pacific Halibut Act of 1982.

2. Fisheries of the Exclusive Economic Zone Off Alaska; Gulf of Alaska License Limitation Program. RIN 0648-AY42 (76 FR 15826; March 22, 2011). The final rule implemented Amendment 86 to the Fishery Management Plan (FMP) for Groundfish of the Gulf of Alaska. This action added a Pacific cod endorsement on licenses issued under the License Limitation Program (LLP) in specific management areas if those licenses had been used on vessels that met minimum recent landing requirements using non-trawl gear, commonly known as fixed gear. This action exempted vessels that use jig gear from the requirement to hold an LLP license, modified the maximum length designation on a specific set of fixed gear licenses, and allows entities representing specific communities to receive a limited number of fixed-gear licenses with Pacific cod endorsements. This action was intended to promote the goals and objectives of the Magnuson-Stevens Fishery Conservation and Management Act (MSA), the Fishery Management Plan, and other applicable law.

3. Fisheries of the Northeastern United States; Atlantic Bluefish Fishery; 2011 Atlantic Bluefish Specifications; Regulatory Amendment. RIN 0648-BA26 (76 FR 17789; March 31, 2011). NMFS issued final specifications for the 2011 Atlantic bluefish fishery, including total allowable landings (TAL), a commercial quota and recreational harvest limit, and a recreational possession limit. The intent of this action was to establish the allowable 2011 harvest levels and other management measures to achieve the target fishing mortality rate (F), consistent with the Atlantic Bluefish FMP. The final rule also amended the bluefish regulations that specify the process for setting the annual TAL and target F to more clearly reflect the intent of the FMP. This action was conducted by NMFS under the authority of the MSA.

4. Endangered and Threatened Species: Designation of Critical Habitat for Cook Inlet Beluga Whale; Final Rule. RIN 0648-AX50 (76 FR 20179; April 11, 2011). This rule designated critical habitat for the Cook Inlet beluga whale (Delphinapterus leucas) distinct population segment (DPS) under the Endangered Species Act (ESA). Two areas were designated, comprising 7,800 square kilometers (km²) (3,013 square miles (mi²) of marine habitat. In developing this rule, NMFS considered public and peer review comments, as well as economic impacts and impacts to national security. NMFS decided in the final rule to exclude the Port of Anchorage in consideration of national security interest. Additionally, portions of military lands were determined to be ineligible for designation as critical habitat.

5. Magnuson-Stevens Fishery Conservation and Management Act Provisions; Fisheries of the Northeastern United States; Northeast (NE) Multispecies Fishery; Framework Adjustment 45; Final Rule and Interim Final Rule. RIN 0648-BA27 (76 FR 23042; April 25, 2011). This final rule partially approved Framework Adjustment (FW) 45 to the NE Multispecies FMP and implements the approved measures. FW 45 was developed by the New England Fishery Management Council (Council) to make adjustments necessary to ensure that conservation and management objectives of the FMP, including preventing overfishing, rebuilding overfished stocks, achieving optimum yield (OY), and minimizing the economic impact of management measures on affected vessels, were being met in accordance with the MSA. Specifically, this action revised the biological reference points and stock status for pollock, updated annual catch limits (ACL) for several stocks for fishing years (FYs) 2011-2012, adjusted the rebuilding program for Georges Bank (GB) yellowtail flounder, increased scallop vessel access to the Great South Channel Exemption Area, approved five new sectors, modified the existing dockside and at-sea monitoring requirements, revised several sector administrative provisions, established a Gulf of Maine (GOM) Cod Spawning Protection Area, and refined measures affecting the operations of NE multispecies vessels fishing with handgear. This action approved the Council's proposed FY 2011 U.S./Canada Management Area total allowable catch (TAC), acceptable biological catch (ABC), and ACL for GB yellowtail flounder, but replaced them with new catch limits for this stock through a parallel emergency action, included as part of this final rule, based on the International Fisheries Agreement Clarification Act (IFACA) that provided new flexibility in setting catch limits for this stock. In addition, this action disapproved a measure to delay fishing industry responsibility for paying for at-sea monitoring coverage costs in FY 2012. This action was necessary to ensure that the fishery is managed on the basis of the best available science, to comply with the ABC control rules adopted in Amendment 16 to the FMP, and to enhance the viability of the fishery. This action was conducted by NMFS under the authority of the MSA.

6. Fisheries Off West Coast States: Pacific Coast Groundfish Fishery; Biennial Specifications and Management Measure. RIN 0648-BA01 (76 FR 27508; May 11, 2011). This final rule established the 2011-2012 harvest specifications for most of the species in the groundfish fishery and management measures for that fishery off the coasts of Washington, Oregon, and California consistent with the MSA and the Pacific Coast Groundfish Fishery Management Plan (PCGFMP). This rule also established, under emergency authority in section 305 of the MSA, harvest specifications for eight overfished species, and for flatfish. Emergency authority was being invoked to implement measures that were included in Amendment 16-5 to the PCGFMP, which NMFS disapproved in December 2010. These included a new rebuilding plan for petrale sole, revised rebuilding plans for the remaining seven overfished species, and revised status determination criteria and precautionary harvest control rule for flatfish.

7. Fisheries of the Northeastern United States; Northeast Skate Complex Fishery; Framework Adjustment 1. RIN 0648-BA91 (76 FR 28328; May 17, 2011). This final rule implemented approved measures in Framework Adjustment 1 to the Northeast Skate Complex Fishery Management Plan. Framework Adjustment 1 was developed by the New England Fishery Management Council (Council) to adjust the possession limits for the skate wing fishery in order to slow the rate of skate wing landings, so that the available TAL was taken by the fishery over a longer duration in the FY than occurred in FY 2010, thus ensuring a steady market supply. The action also allowed vessels that process skate wings at sea to land skate carcasses for sale into the bait market, without counting the carcass landings against the TAL (skate wings are already converted to live weight for monitoring). Although recommended by the Council as part of Framework 1, this final rule announced that NMFS had disapproved a proposal to increase the incidental possession limit for skate wings that would have applied after the skate wing possession limit trigger was reached. This final rule did not adjust the skate fishery specifications for FY 2011. This action was conducted by NMFS under the authority of the MSA.

8. Fisheries of the Northeastern United States; Monkfish; Amendment 5. RIN 0648-AX70 (76 FR 30265; May 25, 2011). This final rule implemented measures that were approved in Amendment 5 to the Monkfish FMP. The New England and Mid-Atlantic Fishery Management Councils developed Amendment 5 to bring the FMP into compliance with the ACL and accountability measure (AM) requirements of the MSA. This rule established the mechanisms for specifying ACLs and AMs and set the ACT and associated measures for days-at-sea (DAS) and trip limits for the Southern Fishery Management Area. NMFS disapproved the proposed ACT, and associated measures, for the Northern Fishery Management Area on the grounds that they were not consistent with the most recent scientific advice. This final rule implemented three additional Amendment 5 management measures to promote efficiency and reduce waste, bring the biological and management reference points in the Monkfish FMP into compliance with revised National Standard 1 Guidelines, and made one correction to the monkfish weight conversion factors.

9. Fisheries of the Exclusive Economic Zone Off Alaska: Bering Sea and Aleutian Islands Crab Rationalization Program. RIN 0648-BA11 (76 FR 35781; June 20, 2011). NMFS issued regulations to implement Amendment 37 to the Fishery Management Plan for Bering Sea/Aleutian Islands King and Tanner Crabs FMP. This action amended the Bering Sea/Aleutian Islands Crab Rationalization Program by establishing a process for eligible contract signatories to request that NMFS exempt holders of West-designated individual fishing quota (IFQ) and individual processor quota (IPQ) in the Western Aleutian Islands golden king crab fishery from the West regional delivery requirements. Federal regulations require West-designated golden king crab IFQ to be delivered to a processor in the West region of the Aleutian Islands with an exact amount of unused West-designated IPQ. However, sufficient processing capacity may not be available each season. This rule was necessary to prevent disruption to the Western Aleutian Islands golden king crab fishery, while providing for the sustained participation of municipalities in the region. This action was intended to promote the goals and objectives of the MSA, the FMP, and other applicable law.

10. Atlantic Highly Migratory Species (HMS): Atlantic Bluefin Tuna Quotas and Atlantic Tuna Fisheries Management Measures. RIN 0648-BA65 (76 FR 39019; July 5, 2011). NMFS modified Atlantic bluefin tuna (BFT) base quotas for all domestic fishing categories; established BFT quota specifications for the 2011 fishing year; reinstated pelagic longline target catch requirements for retaining BFT in the Northeast Distant Gear Restricted Area (NED); amended the Atlantic tunas possession-at-sea and landing regulations to allow removal of Atlantic tunas tail lobes; and clarified the transfer-at-sea regulations for Atlantic tunas. This action was necessary to implement recommendations of the International Commission for the Conservation of Atlantic Tunas (ICCAT), as required by the Atlantic Tunas Convention Act (ATCA), and to achieve domestic management objectives under the MSA.

11. Atlantic Highly Migratory Species: Modification of the Retention of Incidentally-Caught Highly Migratory Species in Atlantic Trawl Fisheries. RIN 0648-BA45 (76 FR 49368; August 10, 2011). This final rule modified the permitting requirements and retention limits for Atlantic HMS that were incidentally-caught in Atlantic trawl fisheries. This action reduced regulatory dead discards of incidentally-caught Atlantic swordfish in the Illex squid trawl fishery by establishing a new Incidental HMS Squid Trawl permit for all valid Illex squid moratorium permit holders. The Incidental HMS Squid Trawl permit allowed up to 15 swordfish per trip to be retained. The final rule also established a retention limit for smoothhound sharks in all Atlantic trawl fisheries. These actions were necessary to achieve domestic management objectives under the MSA, and implemented the 2006 Consolidated HMS Fishery Management Plan (Consolidated HMS FMP), which included objectives in the FMP to monitor and control all components of fishing mortality, both directed and incidental, so as to ensure the long-term sustainability of HMS stocks, and to provide the data necessary for assessing HMS fish stocks and managing HMS, including addressing inadequacies in current data collection and the ongoing collection of economic and bycatch data in Atlantic HMS fisheries.

12. Atlantic Highly Migratory Species: Atlantic Shark Management Measures. RIN 0648-BA69 (76 FR 53652; August 29, 2011). NMFS implemented the ICCAT recommendations 10-07 and 10-08, which prohibited the retention, transshipping, landing, storing, or selling of hammerhead sharks in the family Sphyrnidae (except for Sphyrna tiburo) and oceanic whitetip sharks (Carcharhinus longimanus) caught in association with ICCAT fisheries. This rule affected the commercial HMS pelagic longline (PLL) fishery and recreational fisheries for tunas, swordfish, and billfish in the Atlantic Ocean, including the Caribbean Sea and Gulf of Mexico. This action implemented ICCAT recommendations, consistent with the ATCA, and furthers domestic management objectives under the MSA.

13. Fisheries of Northeastern United States: Atlantic Herring Fishery; Regulatory Amendment. RIN 0648-BA79 (76 FR 54385; September 1, 2011). NMFS revised the reporting requirements for vessels issued Atlantic herring (herring) permits, because more timely catch information was necessary to monitor herring catch against the stock-wide herring ACL and herring management area sub-ACLs, to help prevent sub-ACLs overages and the chance of premature fishery closures. This action required limited access herring vessels to report catch daily via vessel monitoring systems (VMS), open access herring vessels to report catch weekly via the interactive voice response system, and all herring-permitted vessels to submit vessel trip reports weekly.

14. Fisheries of the Northeastern United States: Atlantic Deep-Sea Red Crab; Amendment 3. RIN 0648-BA22 (76 FR 60379 September 29, 2011). This final rule implemented measures that were approved in Amendment 3 to the Atlantic Deep-Sea Red Crab FMP. The New England Fishery Management Council developed Amendment 3 to bring the FMP into compliance with the ACL and AM requirements of the MSA. This rule established the mechanisms for specifying an ACL and AMs and set the TAL for red crab for the 2011-2013 FY. NMFS disapproved two proposed measures in Amendment 3. This final rule implemented additional management measures to promote efficiency in the red crab fishery.

15. Fishing Capacity Reduction Program for the Southeast Alaska Purse Seine Salmon Fishery. RIN 0648-BA13 (76 FR 61985, October 6, 2011). NMFS established regulations to implement a fishing capacity reduction (buyback) program and an industry fee system to repay a $23,476,500 loan for the Southeast Alaska Purse Seine Salmon Fishery (Reduction Fishery). The fee system involves future landings of the Reduction Fishery. This action's intent was to permanently reduce the most fishing capacity at the least cost and establish the fee system. This action was conducted by NMFS under the authority of the MSA.

16. Endangered and Threatened Species: Designation of Critical Habitat for the Southern Distinct Population Segment of Eulachon. RIN 0648-XF87 (76 FR 65324; October 20, 2011). NMFS issued a final rule to designate critical habitat for the southern DPS of Pacific eulachon (Thaleichthys pacificus), pursuant to section 4 of the ESA. NMFS designated 16 specific areas as critical habitat within the states of California, Oregon, and Washington. The designated areas were a combination of freshwater creeks and rivers and their associated estuaries, comprising approximately 539 km (335 mi) of habitat. The Tribal lands of four Indian Tribes were excluded from designation after the evaluation of the impacts of designation and benefits of exclusion associated with Tribal land ownership and management by the Tribes. No areas were excluded from designation based on economic impacts. This final rule responded to and incorporated public comments received on the proposed rule and supporting documents, as well as peer reviewer comments received on our draft biological report and draft economic report.

17. Endangered and Threatened Wildlife and Plants: Designation of Critical Habitat for Black Abalone. RIN 0648-AY62 (76 FR 66806; October 27, 2011). NMFS designated critical habitat for the endangered black abalone under the ESA. This designation included approximately 360 km² of rocky intertidal and subtidal habitat within five segments of the California coast between the Del Mar Landing Ecological Reserve to the Palos Verdes Peninsula, as well as on the Farallon Islands, Año Nuevo Island, San Miguel Island, Santa Rosa Island, Santa Cruz Island, Anacapa Island, Santa Barbara Island, and Santa Catalina Island. This designation included rocky intertidal and subtidal habitats from the mean higher high water (MHHW) line to a depth of −6 meters (m) (relative to the mean lower low water (MLLW) line), as well as the coastal marine waters encompassed by these areas. NMFS did not designate the specific area from Corona Del Mar State Beach to Dana Point, California, because they concluded that the economic benefits of exclusion from the critical habitat designation outweigh the benefits of inclusion and that exclusion of this specific area would not result in the extinction of the species. NMFS also concluded that two of the specific areas proposed for designation (San Nicolas Island and San Clemente Island) were no longer eligible for designation, based on determinations that the U.S. Navy's revised integrated natural resource management plans (INRMPs) for these areas provide benefits to black abalone.

18. Fisheries of the Exclusive Economic Zone Off Alaska: Bering Sea and Aleutian Islands Management Area; Limited Access Privilege Program. RIN 0648-BA18 (76 FR 68354; November 4, 2011). NMFS issued regulations implementing Amendment 93 to the FMP for Groundfish of the Bering Sea and Aleutian Islands Management Area. These regulations amended the Bering Sea and Aleutian Islands Amendment 80 Program to modify the criteria for forming and participating in a harvesting cooperative. This action was necessary to encourage greater participation in harvesting cooperatives, which enable members to more efficiently target species, avoid areas with undesirable bycatch, and improve the quality of products produced. This action was intended to promote the goals and objectives of the MSA, the FMP, and other applicable law.

19. Fisheries of the Northeastern United States: Atlantic Mackerel, Squid, and Butterfish Fisheries; Amendment 11. RIN 0648-AX05 (76 FR 68642; November 7, 2011). NMFS implemented approved measures in Amendment 11 to the Atlantic Mackerel, Squid, and Butterfish Fishery Management Plan, developed by the Mid-Atlantic Fishery Management Council. The approved measures included: A tiered limited access program for the Atlantic mackerel fishery; an open access incidental catch permit for mackerel; an update to essential fish habitat designations for all life stages of mackerel, longfin squid, Illex squid, and butterfish; and the establishment of a recreational allocation for mackerel. This action was conducted by NMFS under the authority of the MSA.

20. Fisheries of Exclusive Economic Zone Off Alaska: Revisions to Pacific Cod Fishing in Parallel Fishery in Bering Sea and Aleutian Islands Management Area. RIN 0648-AY65 (76 FR 73513; November 29, 2011). NMFS issued regulations to limit access of federally permitted pot and hook-and-line catcher/processors (C/Ps) to the Pacific cod fishery in Alaska State waters within three nautical miles of shore adjacent to the Bering Sea and Aleutian Islands management area (BSAI). The affected fishery is commonly known as the “parallel” fishery. The parallel fishery is managed by the State of Alaska concurrent with the Federal pot and hook-and-line fishery for Pacific cod in the BSAI. This rule limited access by federally permitted vessels to the parallel fishery for Pacific cod in three ways. First, it required an owner of a federally permitted pot or hook-and-line C/P vessel used to catch Pacific cod in the State of Alaska parallel fishery to be issued the same endorsements on his or her Federal fisheries permit (FFP) or license limitation program (LLP) license as currently were required for catching Pacific cod in the Federal waters of the BSAI. Second, it provided that the owner of a pot or hook-and-line C/P vessel who surrenders an FFP would not be reissued a new FFP for that vessel within the 3-year term of the permit. Third, it required an operator of any federally permitted pot or hook-and-line C/P vessel used to catch Pacific cod in the parallel fishery to comply with the same seasonal closures of Pacific cod that apply in the Federal fishery. These three measures were necessary to limit some C/Ps from catching a greater amount of Pacific cod in the parallel fishery than has been allocated to their sector from the BSAI total allowable catch. Maintaining Pacific cod catch amounts within BSAI sector allocations also would reduce the potential for shortened Pacific cod seasons for C/Ps in the Federal fishery. These three measures would improve the effectiveness of NMFS' catch accounting and monitoring requirements on vessels participating in the parallel fishery. This action was intended to promote the goals and objectives of the Fishery Management Plan for Groundfish of the Bering Sea and Aleutian Islands Management Area, the MSA, and other applicable laws.

21. Atlantic Highly Migratory Species: Adjustments to the Atlantic Bluefin Tuna General and Harpoon Category Regulations. RIN 0648-AX85 (76 FR 74003; November 30, 2011). NMFS adjusted the Atlantic BFT fishery regulations to: Increase the General category maximum daily retention limit; allow the General category season to remain open until the January subquota was reached, or March 31, whichever happens first; and increase the Harpoon category daily incidental retention limit. This action was intended to enable more thorough utilization of the available U.S. BFT quota for the General and Harpoon (commercial handgear) categories; minimize bycatch and bycatch mortality to the extent practicable; expand fishing opportunities for participants in the commercial winter General category fishery; and increase NMFS' flexibility for setting the General category retention limit depending on available quota. This action was conducted by NMFS under the authority of the MSA.

22. Fisheries of the Exclusive Economic Zone Off Alaska: Pacific Cod Allocations in the Gulf of Alaska; Amendment 83. RIN 0648-AY53 (76 FR 74670; December 1, 2011). NMFS published regulations to implement Amendment 83 to the Fishery Management Plan for Groundfish of the Gulf of Alaska (GOA). Amendment 83 allocated Western and Central GOA Pacific cod TAC limits among various gear and operational sectors. Sector allocations limit the amount of Western and Central GOA Pacific cod that each sector was authorized to harvest. This action reduced competition among sectors and supported stability in the Pacific cod fishery. This rule limited access to the Federal Pacific cod TAC fisheries prosecuted in State of Alaska waters, commonly known as the parallel fishery, adjacent to the Western and Central GOA. This action was intended to promote community participation and provide incentives for new entrants in the jig sector. It also promoted the goals and objectives of the MSA, the Fishery Management Plan, and other applicable laws.

23. Atlantic Highly Migratory Species: Vessel Monitoring Systems. RIN 0648-BA64 (76 FR 75492; December 2, 2011). NMFS finalized requirements for fishermen to replace currently required Mobile Transmitting Unit (MTU) VMS units with Enhanced Mobile Transmitting Unit (E-MTU) VMS in Atlantic HMS fisheries. The key difference between MTU and E-MTU VMS units was that the E-MTU VMS units were capable of two-way communication. The purpose of this final action was to facilitate enhanced communication with HMS vessels at sea, provide HMS fishery participants with an additional means of sending and receiving information at sea, ensure that HMS VMS units are consistent with the current VMS technology and type approval requirements that apply to newly installed units, and to provide NMFS enforcement with additional information describing gear onboard and target species. This rule affected all HMS PLL, bottom longline (BLL), and shark gillnet fishermen who are currently required to have VMS onboard their vessels. This action was conducted by NMFS under the authority of the MSA.

24. Fisheries of the Exclusive Economic Zone Off Alaska: Groundfish of the Gulf of Alaska; Amendment Fisheries of the Exclusive Economic Zone Off Alaska: Groundfish of the Gulf of Alaska; Amendment 88. RIN 0648-BA97 (76 FR 81248; December 27, 2011). This final rule implemented Amendment 88 to the FMP for Groundfish of the Gulf of Alaska (GOA FMP). Amendment 88 was the Central Gulf of Alaska Rockfish Program (Rockfish Program). These regulations allocated exclusive harvest privileges to a specific group of license limitation program license holders who used trawl gear to target Pacific ocean perch, pelagic shelf rockfish, and northern rockfish during particular qualifying years. The Rockfish Program retained the conservation, management, safety, and economic gains realized under the Central Gulf of Alaska Rockfish Pilot Program (Pilot Program) and resolved identified issues in the management and viability of the rockfish fisheries. This action was necessary to replace particular Pilot Program regulations that were scheduled to expire at the end of 2011. This action was intended to promote the goals and objectives of the MSA, the GOA FMP, and other applicable law.

25. Endangered and Threatened Species: Critical Habitat Designation for Endangered Leatherback Sea Turtle. RIN 0648-AX06 (77 FR 4170; January 26, 2012). NMFS issued a final rule to revise the current critical habitat for the leatherback sea turtle (Dermochelys coriacea) by designating additional areas within the Pacific Ocean. This designation included approximately 16,910 mi² (43,798 km²) stretching along the California coast from Point Arena to Point Arguello east of the 3,000 meter depth contour; and 25,004 mi² (64,760 km²) stretching from Cape Flattery, Washington to Cape Blanco, Oregon east of the 2,000 meter depth contour. The designated areas comprised approximately 41,914 mi² (108,558 km²) of marine habitat and include waters from the ocean surface down to a maximum depth of 262 feet (80 m). Other Pacific waters within the U.S. Exclusive Economic Zone (EEZ) were evaluated based on the geographical area occupied by the species, but NMFS determined that they were not eligible for designation, as they did not contain the feature identified as essential to the conservation of the species. The total estimated annualized economic impact associated with this designation was estimated to range between $188,000 and $9.1 million U.S. dollars. This action was conducted by NMFS under the authority of the ESA.

26. Fisheries of Exclusive Economic Zone Off Alaska: Chinook Salmon Bycatch Management in Bering Sea Pollock Fishery; Economic Data Collection. RIN 0648-BA80 (77 FR 5389; February 3, 2012). NMFS issued a final rule to implement the Chinook Salmon Economic Data Report Program, which would evaluate the effectiveness of Chinook salmon bycatch management measures for the Bering Sea pollock fishery that were implemented under Amendment 91 to the FMP for Groundfish of the Bering Sea and Aleutian Islands Management Area. Members of the American Fisheries Act catcher vessels, catcher/processor, and mothership sectors as well as representatives for the six western Alaska Community Development Quota Program organizations that were receiving allocations of Bering Sea pollock would submit the data collected for this program. This rule was intended to promote the goals and objectives of the FMP, the MSA, and other applicable law.

27. Fisheries of Exclusive Economic Zone Off Alaska: Community Development Quota Program. RIN 0648-AV33 (77 FR 6492; February 8, 2012). NMFS issued regulations that govern fisheries managed under the Western Alaska Community Development Quota (CDQ) Program. These revisions were needed to comply with certain changes made to the MSA in 2006. Changes included revision to regulations associated with recordkeeping, vessel licensing, catch retention requirements, and fisheries observer requirements to ensure that they were no more restrictive than the regulations in effect for comparable non-CDQ fisheries managed under individual fishing quotas or cooperative allocations. In addition, NMFS removed CDQ Program regulations that were inconsistent with the MSA, including regulations associated with the CDQ allocation process, the transfer of groundfish CDQ and halibut prohibited species quota, and the oversight of CDQ groups' expenditures. This action was conducted by NMFS under the authority of the MSA.

28. Fisheries of the Northeastern United States: Northeast Multispecies Fishery; Framework Adjustment 47. RIN 0648-BB62 (77 FR 26104; May 2, 2012). NMFS approved Framework Adjustment 47 (Framework 47) to NE Multispecies FMP and implemented the approved measures. The New England Fishery Management Council developed and adopted Framework 47 based on the biennial review process established in the NE Multispecies FMP to develop ACLs and revise management measures necessary to rebuild overfished groundfish stocks and achieve the goals and objectives of the FMP. This action also implemented management measures and revised existing regulations that were not included in Framework 47, including common pool management measures for fishing year (FY) 2012, modification of the Ruhle trawl definition, and clarification of the regulations for charter/party and recreational groundfish vessels fishing in groundfish closed areas. This action was intended to prevent overfishing, rebuild overfished stocks, achieve OY, and ensure that management measures were based on the best available scientific information at the time Framework 47 was submitted. This action was conducted by NMFS under the authority of the MSA.

29. Fisheries of the Exclusive Economic Zone Off Alaska: Pacific Halibut and Sablefish Individual Fishing Quota Program. RIN 0648-AX91 (77 FR 29556; May 18, 2012). NMFS issued a final rule to modify the IFQ Program for the Fixed-Gear Commercial Fisheries for Pacific Halibut and Sablefish in Waters in and off Alaska (IFQ Program) by revoking quota share (QS) that had been inactive since they were originally issued in 1995. Inactive QS were those held by persons that have never harvested their IFQ and had never transferred QS or IFQ into or out of their IFQ accounts. This action was necessary to achieve the catch limit from the halibut fisheries and optimum yield from the sablefish fisheries in Alaska in accordance with National Standard 1 of the MSA and to achieve more efficient use of these species. The intended effect was to promote the management provisions in the Northern Pacific Halibut Act of 1982, the Fishery Management Plan for Groundfish of the Bering Sea and Aleutian Islands Management Area, and the Fishery Management Plan for Groundfish of the Gulf of Alaska.

30. Atlantic Coastal Fisheries Cooperative Management Act Provisions: American Lobster Fishery. RIN 0648-BA56 (77 FR 32420; June 1, 2012). This rule implemented new Federal American lobster regulations that limited entry into the lobster trap fishery in Lobster Conservation Management Area 1 (Area 1), located in the Federal inshore waters of the Gulf of Maine. Eligibility was based on specific eligibility criteria designed to identify active Federal Area 1 lobster trap permits. If a permit met the eligibility criteria, the permit holder was authorized to fish in the Federal waters of Area 1 with up to 800 lobster traps. The limited entry program responded to the recommendations for Federal action in the Atlantic States Marine Fisheries Commission's Interstate Fishery Management Plan for American Lobster.

31. Fisheries of Caribbean, Gulf of Mexico, and South Atlantic: Snapper-Grouper Fishery off Southern Atlantic States; Amendment 18A. RIN 0648-BB56 (77 FR 32408; June 1, 2012). NMFS issued this final rule to implement Amendment 18A to the FMP for the Snapper-Grouper Fishery of the South Atlantic Region (Amendment 18A), as prepared and submitted by the South Atlantic Fishery Management Council. This rule modified the current system of accountability measures for black sea bass, limited effort in the black sea bass segment of the snapper-grouper fishery, and improved fisheries data in the for-hire sector of the snapper-grouper fishery. Amendment 18A also updated the rebuilding plan and modified the ABC for black sea bass. The rule established a spawning season closure for black sea bass. It also modified the rebuilding strategy, ABC, ACL and ACT for black sea bass; modified the current commercial and/or recreational size limits; established a commercial trip limit for black sea bass; and limited participation in the black sea bass pot segment of the snapper grouper fishery through an endorsement program. The rule also established an appeals process for fishermen excluded from the black sea bass pot endorsement program. This final rule was intended to reduce overcapacity in the black sea bass segment of the snapper-grouper fishery and improve data reporting in the commercial and for-hire sectors of the snapper grouper fishery. This action was conducted by NMFS under the authority of the MSA.

32. Fisheries of the Northeastern United States: Northeast Multispecies Fishery; Exempted Fishery for Southern New England Skate Bait Trawl Fishery. RIN 0648-BB35 (77 FR 38738; June 29, 2012). This final rule modified the regulations implementing the NE Multispecies FMP to allow vessels issued a Federal skate permit and a Skate Bait Letter of Authorization to fish for skates in a portion of southern New England (SNE) from July 1 through October 31 of each year, outside of the NE multispecies DAS program. This action allowed vessels to harvest skates in a manner that is consistent with the bycatch reduction objectives of the NE Multispecies FMP. This action was conducted by NMFS under the authority of the MSA.

33. Fisheries of the Exclusive Economic Zone Off Alaska: Chinook Salmon Bycatch Management in the Gulf of Alaska Pollock Fishery; Amendment 93. RIN 0648-BB24 (77 FR 42629; July 20, 2012). NMFS published regulations to implement Amendment 93 to the FMP for Groundfish of the Gulf of Alaska. The regulations apply exclusively to the directed pollock trawl fisheries in the Central and Western Reporting Areas of the GOA (Central and Western GOA). Amendment 93 established separate prohibited species catch (PSC) limits in the Central and Western GOA for Chinook salmon (Oncorhynchus tshawytscha), which would cause NMFS to close the directed pollock fishery in the Central or Western regulatory areas of the GOA, if the applicable limit was reached. This action also required retention of salmon by all vessels in the Central and Western GOA pollock fisheries until the catch was delivered to a processing facility where an observer was provided the opportunity to count the number of salmon and to collect scientific data or biological samples from the salmon. This action made several revisions to the Prohibited Species Donation (PSD) program. Amendment 93 was intended to promote the goals and objectives of the MSA, the FMP, and other applicable laws.

34. Atlantic Highly Migratory Species: Electronic Dealer Reporting Requirements. RIN 0648-BA75 (77 FR 47303; August 8, 2012). This final rule required that Federal Atlantic swordfish, shark, and tuna dealers report receipt of Atlantic sharks, swordfish, and bigeye, albacore, skipjack, and yellowfin (BAYS) tunas to NMFS through an electronic reporting system on a weekly basis. Atlantic HMS dealers would not be required to report bluefin tuna through this electronic reporting system, as a separate reporting system was in place for this species. This final rule changed the current definition of who was considered an Atlantic HMS dealer and required Atlantic HMS dealers to submit dealer reports to NMFS in a timely manner in order to be able to purchase commercially-harvested Atlantic sharks, swordfish, and BAYS tunas. Any delinquent reports would need to be submitted by the dealer and received by NMFS before a dealer could purchase commercially-harvested Atlantic sharks, swordfish, and BAYS tunas from a fishing vessel. These measures were necessary to ensure timely and accurate reporting, which was critical for quota monitoring and management of these species. This action was conducted by NMFS under the authority of the MSA.

35. Second Fishing Capacity Reduction Program: Longline Catcher Processor Subsector of Bering Sea and Aleutian Islands Non-pollock Groundfish Fishery. RIN 0648-BB06 (77 FR 58775; September 24, 2012). NMFS established regulations to implement a second fishing capacity reduction program (also commonly known as “buyback”) and an industry fee system to repay a $2.7 million loan for a single latent permit within the Longline Catcher Processor Subsector of the Bering Sea and Aleutian Islands (BSAI) non-pollock groundfish fishery (Reduction Fishery). The purpose of this action was to permanently reduce the greatest amount of fishing capacity at the least cost. This was intended to result in increased harvesting productivity for the permit holders remaining in the fishery. The loan for this program was added to the previous program loan of $35,700,000 authorized by the FY 2005 Appropriations Act. For purposes of this regulation, the terms license and permit were used interchangeably. This action was conducted by NMFS under the authority of the MSA and other applicable laws.

36. Fisheries of the Exclusive Economic Zone Off Alaska: Bering Sea and Aleutian Islands Management Area; Amendment 97. RIN 0648-BB18 (77 FR 59852, October 1, 2012). This final rule implemented Amendment 97 to the FMP for Groundfish of the Bering Sea and Aleutian Islands Management Area. Amendment 97 allowed the owner of a trawl catcher/processor vessel authorized to participate in the Amendment 80 catch share program to replace that vessel with a vessel that meets certain requirements. This action established the regulatory process for replacement of vessels in the Amendment 80 fleet and the requirements for Amendment 80 replacement vessels, such as a limit on the overall length of a replacement vessel, a prohibition on the use of an American Fisheries Act (AFA) vessel as a replacement vessel, measures to prevent a replaced vessel from participating in Federal groundfish fisheries off Alaska that are not Amendment 80 fisheries, and measures that extend specific catch limits (known as Amendment 80 sideboards) to a replacement vessel. This action was necessary to promote safety-at-sea by allowing Amendment 80 vessel owners to replace their vessels for any reason at any time and by requiring replacement vessels to meet certain U.S. Coast Guard vessel safety standards, and to improve the retention and utilization of groundfish catch by these vessels by facilitating an increase in the processing capabilities of the fleet. This action was intended to promote the goals and objectives of the MSA, the FMP, and other applicable laws.

37. Atlantic Highly Migratory Species: Silky Shark Management Measures. RIN 0648-BB96 (77 FR 60632; October 4, 2012). NMFS implemented the ICCAT Recommendation 11-08, which prohibits retaining, transshipping, or landing of silky sharks (Carcharhinus falciformis) caught in association with ICCAT fisheries. In order to facilitate domestic compliance and enforcement, NMFS also prohibited the storing, selling, and purchasing of the species. This rule primarily affected the commercial Atlantic HMS pelagic longline fishery for tuna and tuna-like species in the Atlantic Ocean, including the Caribbean Sea and Gulf of Mexico. This rule did not affect commercial fishermen fishing for sharks with bottom longline, gillnet, or handgear, and it does not further affect recreational fishermen because harvesting silky sharks was already prohibited in the recreational fishery. This action implemented the ICCAT recommendation, consistent with the ATCA, and furthers domestic management objectives under the MSA.

38. Groundfish Fisheries of the Exclusive Economic Zone off Alaska and Pacific Halibut Fisheries: Observer Program. RIN 0648-BB42 (77 FR 70062; November 21, 2012). This final rule implemented Amendment 86 to the Fishery Management Plan for Groundfish of the Bering Sea and Aleutian Islands Management Area and Amendment 76 to the Fishery Management Plan for Groundfish of the Gulf of Alaska (Amendments 86/76). Amendments 86/76 add a funding and deployment system for observer coverage to the existing North Pacific Groundfish Observer Program (Observer Program) and amend existing observer coverage requirements for vessels and processing plants. The new funding and deployment system allowed NMFS to determine when and where to deploy observers according to management and conservation needs, with funds provided through a system of fees based on the ex-vessel value of groundfish and halibut in fisheries covered by the new system. This action was necessary to resolve data quality and cost equity concerns with the Observer Program's existing funding and deployment structure. This action was intended to promote the goals and objectives of the MSA, the Northern Pacific Halibut Act of 1982, the fishery management plans, and other applicable law.

39. Taking of Marine Mammals Incidental to Commercial Fishing Operations: False Killer Whale Take Reduction Plan. RIN 0648-BA30 (77 FR 71260; November 29, 2012). The final rule issued the False Killer Whale Take Reduction Plan (FKWTRP), and regulatory measures and non-regulatory measures and recommendations to reduce mortalities and serious injuries of false killer whales in Hawaii-based longline fisheries. Regulatory measures include gear requirements, longline prohibited areas, training and certification in marine mammal handling and release, captains' supervision of marine mammal handling and release, and posting of NMFS-approved placards on longline vessels. In this rule, NMFS also recommended research and data collection programs. This final rule also revised the boundaries of the longline prohibited area around the main Hawaiian Islands to be consistent with the prohibited area established under the FKWTRP regulations. The FKWTRP was based on consensus recommendations submitted to NMFS by the False Killer Whale Take Reduction Team (Team), with certain modifications described herein that were determined to be necessary to meet the requirements of the MMPA. This final rule was necessary because current mortality and serious injury levels of the Hawaii Pelagic and Hawaii Insular stocks of false killer whales incidental to the Hawaii-based pelagic longline fisheries are above the stocks' potential biological removal (PBR) levels, and are therefore inconsistent with the short- and long-term goals of the Marine Mammal Protection Act (MMPA). The FKWTRP was intended to meet the requirements of the MMPA.

40. International Fisheries; Western and Central Pacific Fisheries for Highly Migratory Species: Transshipping, Bunkering, Reporting, and Purse Seine Discard Requirements. RIN 0648-BA85 (77 FR 71501; December 3, 2012). NMFS issued regulations under the authority of the Western and Central Pacific Fisheries Convention Implementation Act (WCPFC Implementation Act) to implement requirements for U.S. fishing vessels used for commercial fishing that offload or receive transshipments of HMS, U.S. fishing vessels used for commercial fishing that provide bunkering or other support services to fishing vessels, and U.S. fishing vessels used for commercial fishing that receive bunkering or engage in other support services, in the area of application of the Convention on the Conservation and Management of Highly Migratory Fish Stocks in the Western and Central Pacific Ocean (Convention). Some of the requirements also applied to transshipments of fish caught in the area of application of the Convention (Convention Area) and transshipped elsewhere. NMFS also issued requirements regarding notification of entry into and exit from the “Eastern High Seas Special Management Area” (Eastern SMA) and requirements relating to discards from purse seine fishing vessels. This action was necessary for the United States to implement decisions of the Commission for the Conservation and Management of Highly Migratory Fish Stocks in the Western and Central Pacific Ocean (Commission or WCPFC) and to satisfy its obligations under the Convention, to which it is a Contracting Party.

41. Fisheries Off West Coast States; Pacific Coast Groundfish Fishery: 2013-2014 Biennial Specifications and Management Measures. RIN 0648-BC35 (78 FR 580; January 3, 2013). This final rule established the 2013-2014 harvest specifications and management measures for groundfish taken in the U.S. exclusive economic zone off the coasts of Washington, Oregon, and California consistent with the MSA and the PCGFMP. This final rule also revised the collection of management measures in the groundfish fishery regulations that are intended to keep the total catch of each groundfish species or species complex within the harvest specifications.

42. Fisheries of the Exclusive Economic Zone Off Alaska: Bering Sea and Aleutian Islands Management Area; Groundfish Retention Standard. RIN 0648-BA93 (78 FR 12627; February 25, 2013). NMFS published a regulatory amendment to modify the groundfish retention standard (GRS) program in the Bering Sea and Aleutian Islands Management Area (BSAI). This final rule removed certain regulatory requirements that mandate minimum levels of groundfish retention by the owners and operators of trawl catcher/processor (C/P) vessels not listed in the AFA, commonly referred to as either non-AFA trawl C/Ps or Amendment 80 vessels, and Amendment 80 cooperatives participating in the BSAI groundfish fisheries. The GRS program was implemented to increase the retention and utilization of groundfish; however, NMFS discovered that the regulatory methodology used to calculate compliance with the GRS requires individual Amendment 80 vessels and Amendment 80 cooperatives to retain groundfish at rates well above the minimum retention rates recommended by the Council or implemented by NMFS. As a result, the GRS imposed significantly higher than predicted compliance costs on vessel owners and operators due to the increased level of retention needed to meet the minimum retention rates. Additionally, NMFS discovered that enforcement of the GRS had proven far more complex, challenging, and potentially costly than anticipated by NMFS. This action was necessary to relieve Amendment 80 vessels and Amendment 80 cooperatives from undue compliance costs stemming from the minimum retention rates while continuing to promote the GRS program goals of increased groundfish retention and utilization. This action maintained current monitoring requirements for the Amendment 80 fleet and established a new requirement for Amendment 80 cooperatives to annually report groundfish retention performance as part of the report submitted to NMFS. This action was intended to promote the goals and objectives of the MSA, the fishery management plan, and other applicable law.

43. Fisheries of the Northeastern United States: Northeast Multispecies Fishery Management Plan; Amendment 19. RIN 0648-BC48 (78 FR 20260; April 4, 2013). This final rule implemented Amendment 19 to the Northeast Multispecies Fishery Management Plan. The New England Fishery Management Council developed Amendment 19 to modify management measures that governed the small-mesh multispecies fishery, including the accountability measures, the year-round possession limits, and total allowable landings process. Amendment 19 was approved by NMFS on January 15, 2013. This action was conducted by NMFS under the authority of the MSA.

44. Fisheries of the Caribbean, Gulf of Mexico, and South Atlantic: Snapper-Grouper Fishery off Southern Atlantic States; Amendment 18B. RIN 0648-BB58 (78 FR 23858; April 23, 2013). NMFS issued this final rule to implement management measures described in Amendment 18B to the FMP for the Snapper-Grouper Fishery of the South Atlantic Region (Amendment 18B), as prepared by the South Atlantic Fishery Management Council. This final rule: Established a longline endorsement program for the commercial golden tilefish component of the snapper-grouper fishery; established initial eligibility requirements for a golden tilefish longline endorsement; established an appeals process; allocated the commercial golden tilefish ACL among gear groups; established a procedure for the transfer of golden tilefish endorsements; and modified the golden tilefish trip limits; and established a trip limit for commercial fishermen who did not receive a golden tilefish longline endorsement. The intent of this rule was to reduce overcapacity in the commercial golden tilefish component of the snapper-grouper fishery. This action was conducted by NMFS under the authority of the MSA.

45. Fisheries of the Northeastern United States: Northeast Multispecies Fishery. RIN 0648-BC27 78 FR 26118; May 3, 2013). This rule announced that NMFS partially approved Framework Adjustment 48 to the NE Multispecies FMP and implemented the approved measures in the regulations. Framework 48 was the first of two parallel and related actions developed by the New England Fishery Management Council to respond to updated stock status information and to adjust other management measures in the NE multispecies (groundfish) fishery beginning in FY 2013. This action implemented new status determination criteria for GOM cod, GB cod, Southern New England/Mid-Atlantic (SNE/MA) yellowtail flounder, and white hake based on new benchmark assessments completed for these stocks in 2012 and 2013. NMFS approved and implemented updated status determination criteria for white hake through this interim final rule and accepted further comment on this measure since it was not available for comment in the Framework 48 proposed rule. Through this action, NMFS also approved and implemented the following Framework 48 measures: Elimination of dockside monitoring requirements for the groundfish fishery; lower minimum fish sizes for several groundfish stocks; clarified goals and performance standard for groundfish monitoring programs; revisions to the allocation of GB yellowtail flounder to the scallop fishery; and establishment of sub-ACLs of GB yellowtail flounder and SNE/MA windowpane flounder for the scallop and other non-groundfish fisheries. NMFS also approved revisions to recreational and commercial accountability measures (AMs), including amendments to existing AMs for windowpane flounder, ocean pout, and Atlantic halibut, and new “reactive” AMs for Atlantic wolffish and SNE/MA winter flounder, to address a remand by the U.S. District Court of Appeals. NMFS disapproved some measures in Framework 48: A provision for cost-sharing of monitoring costs between the industry and NMFS; a provision to delay industry-funded monitoring to FY 2014; finer scale discard rate strata for GB yellowtail flounder; and a provision to remove requirements for groundfish trawlers to stow their gear when transiting closed areas. Through this interim final rule, NMFS also withdrew a proposed correction to the regulations specific to monitoring of the Eastern U.S./Canada quotas, and accepted additional public comment on this issue. These measures were necessary to meet the requirements of the FMP and the MSA, most notably preventing overfishing, ensuring that management measures are based on the best available science, and mitigating, to the extent practicable, potential negative economic impacts from reductions in catch limits anticipated for fishing year FY 2013. This action was conducted by NMFS under the authority of the MSA.

46. Fisheries of the Northeastern United States: Northeast Multispecies Fishery. RIN 0648-BC97 (78 FR 26172; May 3, 2013). NMFS partially approved Framework Adjustment 50 (Framework 50) to the NE Multispecies FMP, and implemented the approved measures. NMFS also implemented three parallel emergency actions to set FY 2013 catch limits for GB yellowtail flounder and white hake, and to modify the maximum GOM cod carryover available to sectors from FY 2012 to FY 2013. Framework 50 set specifications for FYs 2013-2015, including 2013 TACs for U.S./Canada stocks, and revised the rebuilding program and management measures for Southern New England/Mid-Atlantic (SNE/MA) winter flounder. This final rule also implemented FY 2013 management measures for the recreational and common pool fisheries and clarified how to account for sector carryover for FY 2013 and for FY 2014 and beyond. These actions were necessary to prevent overfishing, rebuild overfished stocks, achieve OY, and ensure that management measures were based on the best available scientific information. This action was conducted by NMFS under the authority of the MSA.

47. Fisheries of the Northeastern United States: Northeast Multispecies Fishery; Exempted Fishery for the Spiny Dogfish Fishery in the Waters East and West of Cape Cod, MA. RIN 0648-BC50 (78 FR 26518; May 7, 2013). This interim final rule modified the regulations implementing the NE Multispecies FMP to allow vessels fishing with a NE Federal spiny dogfish permit to fish in an area east of Cape Cod, MA (Eastern Exemption Area) with gillnet and longline gear, from June through December and with handgear from June through August, and to fish in Cape Cod Bay (Western Exemption Area) with longline gear and handgear from June through August. This action allowed vessels to harvest spiny dogfish in a manner that is consistent with the bycatch reduction objectives of the NE Multispecies FMP. This action was conducted by NMFS under the authority of the MSA.

48. Fisheries of the Exclusive Economic Zone Off Alaska: Bering Sea and Aleutian Islands Crab Rationalization Program. RIN 0648-BA82 (78 FR 28523; May 15, 2013). NMFS issued regulations to implement Amendment 41 to the FMP for Bering Sea/Aleutian Islands King and Tanner Crabs. These regulations amended the Bering Sea/Aleutian Islands Crab Rationalization Program (CR Program) by establishing a process whereby holders of regionally designated IFQ and IPQ in six CR Program fisheries may receive an exemption from regional delivery requirements in the North or South Regions. The six CR Program fisheries were Bristol Bay red king crab, Bering Sea snow crab, Saint Matthew Island blue king crab, Eastern Aleutian Islands golden king crab, Western Aleutian Islands red king crab, and Pribilof Islands red and blue king crab. This action was necessary to mitigate disruptions in a CR Program fishery that prevented participants from complying with regional delivery requirements. This action was intended to promote the goals and objectives of the MSA, the FMP, and other applicable law.

49. Fisheries of the Exclusive Economic Zone Off Alaska: Revised Maximum Retainable Amounts of Groundfish; Bering Sea and Aleutian Islands. RIN 0648-BA43 (78 FR 29248; May 20, 2013). NMFS issued a regulation to increase the maximum retainable amounts (MRAs) of groundfish using arrowtooth flounder (Atheresthes stomias) and Kamchatka flounder (Atheresthes evermanni) as basis species in the Bering Sea and Aleutian Islands management area (BSAI). This action allowed the use of BSAI arrowtooth flounder and Kamchatka flounder as basis species for the retention of species closed to directed fishing and was necessary to improve retention of otherwise marketable groundfish in these BSAI fisheries. This action also included four regulatory amendments related to harvest management of Kamchatka flounder. Two amendments were necessary to account for Kamchatka flounder in the same manner as arrowtooth flounder in the BSAI and to aid in the recordkeeping, reporting, and catch accounting of flatfish in the BSAI. The third amendment was necessary to provide NMFS the flexibility to allocate Kamchatka flounder (and other species in the future) to the Western Alaska Community Development Quota (CDQ) Program in the annual harvest specifications. Through this action, NMFS intended to promote the goals and objectives of the MSA, the Fishery Management Plan for Groundfish of the Bering Sea and Aleutian Islands Management Area, and other applicable law.

50. Highly Migratory Species: Atlantic Shark Management Measures; Amendment 5a. RIN 0648-BB29 (78 FR 40318; July 3, 2013). The final rule implemented the Final Amendment 5a to the 2006 Consolidated Atlantic HMSFMP. In developing Amendment 5a to the 2006 Consolidated HMS FMP, NMFS examined a full range of management alternatives to maintain rebuilding of sandbar sharks; end overfishing and rebuild scalloped hammerhead and Atlantic blacknose sharks; and establish a TAC and commercial quota and recreational measures for Gulf of Mexico blacknose and blacktip sharks, consistent with the MSA, and other applicable laws. This final rule implemented the final conservation and management measures in Amendment 5a to the 2006 Consolidated HMS FMP for sandbar, scalloped hammerhead, blacknose, and Gulf of Mexico blacktip sharks. This final rule also announced the revised 2013 annual regional quotas for aggregated large coastal sharks (LCS), hammerhead, Gulf of Mexico blacktip, blacknose, and non-blacknose small coastal sharks (SCS). These changes could have affected all commercial and recreational fishermen who fish for sharks in the Atlantic Ocean, the Gulf of Mexico, and the Caribbean Sea.

51. Fisheries of the Caribbean, Gulf of Mexico, and South Atlantic: Reef Fish Fishery of Puerto Rico and the U.S. Virgin Islands; Parrotfish Management Measures in St. Croix. RIN 0648-BC20 (78 FR 45894; July 30, 2013). NMFS issued this final rule to implement management measures described in Regulatory Amendment 4 to the FMP for the Reef Fish Fishery of Puerto Rico and the U.S. Virgin Islands, as prepared by the Caribbean Fishery Management Council. This rule established minimum size limits for parrotfish in the EEZ off St. Croix in the U.S. Virgin Islands. The purpose of this final rule was to provide protection from harvest to parrotfish and to assist the stock in achieving OY. This action was conducted by NMFS under the authority of the MSA.

52. Highly Migratory Species: 2006 Consolidated Atlantic Highly Migratory Species Fishery Management Plan; Amendment 8. RIN 0648-BC31 (78 FR 52012; August 21, 2013). This final rule implemented Amendment 8 to the 2006 Consolidated Atlantic HMS FMP. Amendment 8 to the 2006 Consolidated HMS FMP provided additional opportunities for U.S. fishermen to harvest swordfish using selective gears that are low in bycatch, given their rebuilt status and increased availability. This final rule created new and modified commercial fishing vessel permits that allow permit holders to retain and sell a limited number of swordfish caught on rod and reel, handline, harpoon, green-stick, or bandit gear. Specific management measures under this final action included the establishment of a new open access commercial swordfish permit, modification of HMS Charter/Headboat permit regulations to allow for the commercial retention of swordfish on non-for-hire trips, regional swordfish retention limits for the new and modified permits, gear authorizations, and reporting requirements. This action was conducted by NMFS under the authority of the MSA.

53. Fisheries of the Northeastern United States: Northeast Multispecies Fishery; Framework Adjustment 48, Framework Adjustment 50; 2013 Sector Operations Plans, Contracts, and Allocation Annual Catch Entitlements. RIN 0648-BC27 (78 FR 53363; August 29, 2013). This final rule finalized interim measures put in place for the May 1, 2013, start of the NE multispecies fishing year. This action was intended to do the following: Finalize interim rule measures put in place by FW 48, FW 50, and in the 2013 Sector Operations Plan rulemakings; respond to public comments received on the interim measures; and notify the public of changes being made to Eastern U.S./Canada Area quota monitoring and associated reporting requirements. This action was conducted by NMFS under the authority of the MSA.

54. Atlantic Highly Migratory Species: Vessel Monitoring Systems. RIN 0648-BD24 (78 FR 68757; November 15, 2013). NMFS modified the reporting requirements for vessels required to use VMS units in Atlantic HMS fisheries. This final rule required vessel owners or operators, who have been issued HMS permits and were required to use VMS, to provide hourly position reports 24 hours a day, 7 days a week (24/7) via VMS. The final rule also allowed the vessel owners or operators of such vessels to declare out of the HMS fishery when not fishing for or retaining HMS for a period of time encompassing two or more trips. This final action continued to provide NOAA Office of Law Enforcement needed information on the target fishery and gear possessed in order to facilitate enforcement of closed areas and other HMS regulations, while reducing the reporting burden on vessel owners and operators. This action brought HMS fisheries regulations in line with VMS regulations in other fisheries. This rule affected all owners and/or operators of permitted vessels that fish for HMS and are required to use VMS. This action was conducted by NMFS under the authority of the MSA.

55. Fisheries of the Caribbean, Gulf of Mexico, and South Atlantic: Shrimp Fishery of the Gulf of Mexico; Establish Funding Responsibilities for the Electronic Logbook Program. RIN 0648-BD41 (78 FR 78776; December 27, 2013). NMFS established funding responsibilities for an upgrade to the shrimp electronic logbook (ELB) program as described in a framework action to the FMP for the Shrimp Fishery of the Gulf of Mexico, as prepared by the Gulf of Mexico Fishery Management Council. Newer and more efficient ELB units have been purchased by NMFS for the Gulf shrimp fleet and are available for installation on Gulf shrimp vessels. Therefore, NMFS established a cost-sharing program to fund the ELB program. NMFS paid for the software development, data storage, effort estimation analysis, and archival activities for the new ELB units, and selected vessel permit holders in the Gulf shrimp fishery paid for installation and maintenance of the new ELB units and for the data transmission from the ELB units to a NOAA server. The purpose of these changes was to ensure that management of the shrimp fishery is based upon the best scientific information available and that bycatch is minimized to the extent practicable. This action was conducted by NMFS under the authority of the MSA.

56. Fisheries of the Caribbean, Gulf of Mexico, and South Atlantic: Snapper-Grouper Fishery Off the Southern Atlantic States; Amendment 27. RIN 0648-BD05 (78 FR 78770; December 27, 2013). NMFS issued this final rule to implement Amendment 27 (Amendment 27) to the FMP for the Snapper-Grouper Fishery of the South Atlantic Region, as prepared and submitted by the South Atlantic Fishery Management Council. Amendment 27 and this final rule extended the South Atlantic Council's management responsibility for Nassau grouper into the Gulf of Mexico (Gulf) EEZ; increased the number of allowable crew members to four on dual-permitted snapper-grouper vessels (i.e., vessels holding a South Atlantic Charter Vessel/Headboat Permit for Snapper-Grouper and a commercial South Atlantic Unlimited or a 225-Pound Trip Limit Snapper-Grouper Permit) that were fishing commercially; removed the prohibition on retaining any fish under the aggregate bag limit for grouper and tilefish or the vermilion snapper bag limit by captains and crew of federally permitted for-hire vessels; modified the snapper-grouper framework procedures to allow ABCs, ACLs, and annual catch targets (ACTs) to be adjusted via an abbreviated framework process; and removed blue runner from the FMP. The purposes of this final rule were to streamline management of Nassau grouper, improve vessel safety for dual-permitted vessels, implement consistent regulations regarding captains and crew retention limits for snapper-grouper species, expedite adjustments to snapper-grouper catch limits when new scientific information becomes available, and minimize socio-economic impacts to fishermen who harvest and sell blue runner. This action was conducted by NMFS under the authority of the MSA.

Availability of Completed Reviews

NMFS will make available a copy of this notice and the reviews when complete to the public at: https://www.fisheries.noaa.gov/national/laws-and-policies/guidance-conducting-economic-and-social-analyses-regulatory-actions.

Dated: September 17, 2020.
Jennifer M. Wallace,
Acting Director, Office of Sustainable Fisheries, National Marine Fisheries Service.

[FR Doc. 2020-21075 Filed 9-22-20; 8:45 am]

BILLING CODE 3510-22-P